DEPARTMENT OF COMMERCE

National Oceanic and Atmospheric Administration

RIN 0648-XC707

Endangered Species; File No. 27106; Extension of Public Comment Period

AGENCY: National Marine Fisheries Service (NMFS), National Oceanic and Atmospheric Administration (NOAA), Commerce.

ACTION: Notice; receipt of application and conservation plan for an incidental take permit; extension of public comment period.

SUMMARY: We, NMFS, announce the extension of the public comment period on our December 22, 2022, notice of receipt of application and conservation plan for an incidental take permit. North Carolina Department of Environment and Natural Resources, Division of Marine Fisheries (NCDMF) has applied in due form for a permit pursuant to the Endangered Species Act of 1973, as amended (ESA). As required by the ESA, NCDMF's application includes a conservation plan designed to minimize and mitigate take of endangered or threatened species. The permit application is for the incidental take of ESA-listed sea turtles and sturgeon associated with the otherwise lawful gill net fisheries operating in the inshore waters of North Carolina. The duration of the requested permit is 10 years.

DATES: The comment period for the document published at 87 FR 78659 on December 22, 2022, is extended. The comment period was originally scheduled to close on January 23, 2023. We are extending the public comment period by 30 days to February 22, 2023. Comments previously submitted do not need to be resubmitted.

ADDRESSES: The application is available for download and review at https://www.fisheries.noaa.gov/national/endangered-species-conservation/incidental-take-permits and at https://www.regulations.gov. The application is also available upon request (see FOR FURTHER INFORMATION CONTACT).

You may submit comments, identified by NOAA-NMFS-2022-0115, by Electronic Submission: Submit all electronic public comments via the Federal eRulemaking Portal https://www.regulations.gov and enter NOAA-NMFS-2022-0115 in the Search box. Click on the “Comment Now!” icon, complete the required fields, and enter or attach your comments.

Instructions: Comments sent by any other method, to any other address or individual, or received after the end of the comment period, may not be considered by NMFS. All comments received are a part of the public record and will generally be posted for public viewing on https://www.regulations.gov without change. All Personal Identifying Information (e.g., name, address, etc.) voluntarily submitted by the commenter may be publicly accessible. Do not submit Confidential Business Information or otherwise sensitive or protected information. We will accept anonymous comments (enter N/A in the required fields, if you wish to remain anonymous). Attachments to electronic comments will be accepted in Microsoft Word, Excel, or Adobe PDF file formats only.

FOR FURTHER INFORMATION CONTACT: Celeste Stout, NMFS, Office of Protected Resources at email: celeste.stout@noaa.gov or phone: (301) 427-8436; Wendy Piniak, NMFS, Office of Protected Resources at wendy.piniak@noaa.gov.

SUPPLEMENTARY INFORMATION:

Background

On December 22, 2022, we published a notice of receipt of application and conservation plan from NCDMF for an incidental take permit. In that notice we made the incidental take permit application and associated conservation plan available for public comment.

We received a request to extend the public comment period to a minimum of 120 days in order to provide the public with additional time to gather relevant information and adequately comment on the application and conservation plan in a meaningful and constructive manner. We considered the request and concluded that a 30-day extension should allow sufficient time for responders to submit comments without significantly delaying the completion of our review. We are therefore extending the close of the public comment period from January 23, 2023, to February 22, 2023. Comments previously submitted do not need to be resubmitted.

Authority: The authority for this action is the Endangered Species Act of 1973, as amended (16 U.S.C. 1531 et seq.).

Dated: January 18, 2023.
Angela Somma,
Chief, Endangered Species Conservation Division, Office of Protected Resources, National Marine Fisheries Service.

[FR Doc. 2023-01210 Filed 1-20-23; 8:45 am]

BILLING CODE 3510-22-P